DEPARTMENT OF THE INTERIOR

Bureau of Indian Affairs

Submission of Paperwork Reduction Act Request to Office of Management and Budget

AGENCY: Bureau of Indian Affairs, Interior.

ACTION: Notice.

SUMMARY: This notice announces that the Information Collection Request for Bureau of Indian Affairs (BIA) Form-4432, Verification of Indian Preference for Employment in the BIA and the Indian Health Service (IHS) has been submitted to the Office of Management and Budget (OMB) for approval under the provisions of the Paperwork Reduction Act of 1995. The BIA is soliciting public comments on the subject proposal.

DATES: Written comments must be submitted on or before April 22, 2002.

ADDRESSES: Written comments should be sent directly to the Office of Management and Budget, Office of Information and Regulatory Affairs, Attention: Desk Officer for the Department of the Interior, 725 17th Street, NW., Washington, DC 20503. Send a copy of your comments to Duane Bird Bear, Chief, Division of Tribal Government Services, Office of Tribal Services, Bureau of Indian Affairs, 1849 C Street, NW., MS-4660-MIB, Washington, DC 20240.

FOR FURTHER INFORMATION CONTACT: Carolyn Newman, 202-208-2473.

SUPPLEMENTARY INFORMATION: A 60-day notice for public comments was published in the Federal Register on November 21, 2001 (66 FR 58514). No comments were received on the workload burden or the form itself (OMB Control No. 1076-0160) during this public comment period. Comments were received on January 28, 2002, but they concerned substantive requirements for descendants of members of federally recognized Indian tribes but who were not themselves enrolled members of the tribe. This issue will be addressed during rule revision.

I. Abstract

The purpose of the Indian Preference Form is to encourage qualified Indians to seek preference in employment with the BIA and the IHS. BIA collects information under the proposed regulations to ensure compliance with Indian preference hiring requirements. The information collection relates only to individuals applying for employment with the BIA and the IHS. The tribe's involvement is limited to verifying membership information submitted by the applicant. The collection of information allows certain persons who are of Indian descent to receive preference when appointments are made to vacancies in positions with the BIA and IHS as well as in any unit that has been transferred intact from the BIA to a Bureau or office within the Department of the Interior, or the Department of Health and Human Services and that continues to perform the functions formerly performed as part of the BIA or the IHS. You are eligible for preference if (a) you are a member of a federally recognized Indian tribe; (b) you are a descendant of a member and you were residing within the present boundaries of any Indian reservation on June 1, 1934; (c) you are an Alaska Native; or (d) you possess one-half degree Indian blood derived from tribes that are indigenous to the United States. The information is submitted in order to obtain or retain a benefit, namely, preference in employment with the BIA and the IHS.

II. Request for Comments

The Department of the Interior invites comments on:

(a) Whether the collection of information is necessary for the proper performance of the functions of the agency, including whether the information will have practical utility;

(b) The accuracy of the agency's estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

The Office of Management and Budget has up to 60 days to approve or disapprove the information collection but may respond after 30 days; therefore, comments submitted in response to this notice should be submitted to OMB within 30 days in order to assure their maximum consideration. Our practice is to make comments, including names and home addresses of respondents, available for public review during regular business hours. If you wish us to withhold any information, you must state this prominently at the beginning of your comment. We will honor your request to the extent allowable by law. Please note that an agency may not conduct or sponsor, and a person is not required to respond to, a collection of information unless a currently valid OMB control number is displayed. You may request copies of the information collection forms and our submission to OMB from the person listed in FOR FURTHER INFORMATION CONTACT section.

III. Data

Title: Verification of Indian Preference for Employment in the BIA and the IHS, BIA Form 4432.

OMB approval number: 1076-0160.

Type of Request: Extension of a currently approved collection.

Description of respondents: Qualified Indians who are seeking preference in employment with the BIA and IHS. Approximately a total of 5,000 applications for preference in employment are received annually by the BIA field offices.

Frequency: On occasion as needed.

Estimated completion time: The average burden of submitting an Indian Preference Form is 30 minutes including time for reviewing instructions, searching data sources and assembling the information needed.

Total annual burden: 5,000 × ½ hour = 2500 hours.

Estimated cost: There are no costs to consider, except postage and the cost of duplicating the original verification form, because verification of the information is already available for other reasons. The form will be used by an applicant to seek documentation of Indian descent or membership from either a tribal official or the BIA.

Dated: March 4, 2002.
Neal A. McCaleb,
Assistant Secretary—Indian Affairs.

[FR Doc. 02-6978 Filed 3-21-02; 8:45 am]

BILLING CODE 4310-4J-P